NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission: Revision.

2. The title of the information collection: Proposed Rule—10 CFR parts 30, 40, and 70, “Financial Assurance Amendments for Materials Licensees”.

3. The form number if applicable: Not Applicable.

4. How often the collection is required: For licensees certifying financial assurance, one-time. For licensees required to update a decommissioning funding plan, every 3 years.

5. Who will be required or asked to report: Materials licensees required to provide financial assurance.

6. An estimate of the number of annual responses:

10 CFR part 30: 568,

10 CFR part 40: 87,

10 CFR part 70: 51.

7. The estimated number of annual respondents:

10 CFR part 30: 568,

10 CFR part 40: 87,

10 CFR part 70: 51.

8. An estimate of the total number of hours needed annually to complete the requirement or request:

10 CFR part 30: 5910 (10.4 hrs. per licensee),

10 CFR part 40: 638 (7.3 hrs. per licensee),

10 CFR part 70: 384 (7.5 hrs. per licensee).

9. An indication of whether Section 3507(d), Pub. L. 104-13 applies: Applicable.

10. Abstract: The Nuclear Regulatory Commission (NRC) is proposing to amend its regulations for financial assurance for certain materials licensees to bring the amount of financial assurance required more in line with current decommissioning costs. The objective of this proposed action is to maintain adequate assurance so that timely decommissioning can be carried out following shutdown of a licensed facility. Licensees using certifications will be required to submit a statement that they meet the new financial assurance levels. Those requiring a decommissioning funding plan will be required to update the plan every 3 years.

Submit, by November 4, 2002, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, One White Flint North, 11555 Rockville Pike, Room O-1 F1, Rockville, MD 20852. The proposed rule indicated in “The title of the information collection” is or has been published in the Federal Register within several days of the publication date of this Federal Register notice. The OMB clearance package and rule are available at the NRC World Wide Web site: http://www.nrc.gov/public-involve/doc-comment/omb/index.html for 60 days after the signature date of this notice and are also available at the rule forum site, http://ruleforum.llnl.gov.

Comments and questions should be directed to the OMB reviewer by November 4, 2002: Bryon Allen, Office of Information and Regulatory Affairs (3150-0009, -0017, and -0020), NEOB-10202, Office of Management and Budget, Washington, DC 20503.

Comments can also be submitted by telephone at (202) 395-3087.

The NRC Clearance Officer is Brenda Jo. Shelton, 301-415-7233.

Dated at Rockville, Maryland, this 27th day of September, 2002.
For the Nuclear Regulatory Commission.
Beth C. St. Mary,
Acting NRC Clearance Officer, Office of the Chief Information Officer.

[FR Doc. 02-25145 Filed 10-2-02; 8:45 am]

BILLING CODE 7590-01-P